DEPARTMENT OF ENERGY

Federal Energy Regulatory Commission

[Docket No. RM18-9-008]

Participation of Distributed Energy Resource Aggregations in Markets Operated by Regional Transmission Organizations and Independent System Operators; Notice of Request for Technical Conference

Take notice that on December 22, 2021, Voltus, Inc., pursuant to Rule 207 of the Federal Energy Regulatory Commission's (Commission) Rules of Practice and Procedure, 18 CFR 385.207 (2021), filed a petition requesting that the Commission hold a technical conference regarding Order No. 2222.¹ Voltus requests that the Commission convene a technical conference to collectively discuss key issues arising from the Order No. 2222 compliance proposals of the Regional Transmission Organizations and Independent System Operators, and subsequently provide direction to stakeholders either informally or via the issuance of a policy statement. Voltus proposes a technical conference occur in February or March 2022, after California Independent System Operator Corporation, New York Independent System Operator, Inc., PJM Interconnection, L.L.C., and ISO New England Inc. have filed their Order No. 2222 compliance proposals, but before Southwest Power Pool, Inc. and Midcontinent Independent System Operator, Inc. file their proposals in April 2022.

¹ Participation of Distributed Energy Resource Aggregations in Markets Operated by Regional Transmission Organizations and Independent System Operators, Order No. 2222, 172 FERC ¶ 61,247 (2020), order on reh'g, Order No. 2222-A, 174 FERC ¶ 61,197, order on reh'g, Order No. 2222-B, 175 FERC ¶ 61,227 (2021).

This notice does not change the existing deadlines for submission of Order No. 2222 compliance filings.

Any person that wishes to comment on Voltus's petition in this proceeding must file comments in accordance with Rule 211 of the Commission's Rules of Practice and Procedure, 18 CFR 385.211 (2021). Comments will be considered by the Commission in determining the appropriate action to be taken. Comments must be filed on or before the comment date.

In addition to publishing the full text of this document in the Federal Register, the Commission provides all interested persons with an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

This filing is accessible on-line at http://www.ferc.gov, using the “eLibrary” link. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on February 7, 2022.

Dated: January 7, 2022.
Kimberly D. Bose,
Secretary.

[FR Doc. 2022-00570 Filed 1-12-22; 8:45 am]

BILLING CODE 6717-01-P